DEPARTMENT OF HOMELAND SECURITY

Coast Guard

[Docket No. USCG-2010-1146]

Safety Requirements and Manning Exemption Eligibility on Distant Water Tuna Fleet Vessels

AGENCY: Coast Guard, DHS.

ACTION: Notice of availability and request for comments.

SUMMARY: Pursuant to Section 904 of the 2010 Coast Guard Authorization Act, the Coast Guard announces the availability of a draft policy regarding distant water tuna fleet vessels manning exemption eligibility and safety requirements. We request your comments on the Safety Requirements and Manning Exemption Eligibility on Distant Water Tuna Fleet Vessels.

DATES: Comments and related material must either be submitted to our online docket via http://www.regulations.gov on or before February 22, 2011 or reach the Docket Management Facility by that date.

ADDRESSES: You may submit comments identified by docket number USCG-2010-1146 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand Delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, call or e-mail Jonathan G. Wendland, Fishing Vessel Safety Division (CG-5433), U.S. Coast Guard; telephone 202-375-1245, e-mail jonathan.g.wendland@uscg.mil. If you have questions on viewing or submitting material to the docket, call Renee V. Wright, Program Manager, Docket Operations, telephone 202-366-9826.

SUPPLEMENTARY INFORMATION:

Public Participation and Request for Comments

We encourage you to submit comments and related material on the draft policy on Safety Requirements and Manning Exemption Eligibility on Distant Water Tuna Fleet Vessels. All comments received will be posted, without change, to http://www.regulations.gov and will include any personal information you have provided.

Submitting comments: If you submit a comment, please include the docket number for this notice (USCG-2010-1146) and provide a reason for each suggestion or recommendation. You may submit your comments and material online, or by fax, mail or hand delivery, but please use only one of these means. We recommend that you include your name and a mailing address, an e-mail address, or a telephone number in the body of your document so that we can contact you if we have questions regarding your submission.

To submit your comment online, go to http://www.regulations.gov and type “USCG-2010-1146” in the “Keyword” box. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the comments and related material: To view the comments, the draft policy, the USCG Marine Safety Manual Volume III Marine Industry Personnel, MSC.1/Circ.1163/Rev.6/(commonly referred to as “the White List”) and STCW A-I/10 as referenced in the draft policy, go to http://www.regulations.gov, click on the “read comments” box, which will then become highlighted in blue. In the “Keyword” box insert “USCG-2010-1146” and click “Search.” Click the “Open Docket Folder” in the “Actions” column. If you do not have access to the Internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Background and Purpose

The Coast Guard Maritime Transportation Act (CGMTA) of 2006 (section 421) authorized United States-documented purse seine vessels fishing for highly migratory species (under a license issued pursuant to the 1987 South Pacific Tuna Treaty [SPTT]) to use foreign citizens, except for the master, to meet manning requirements if no United States citizen personnel are readily available. The manning exemption was only applicable to vessels operating in and out of American Samoa. That authorization was for a 48-month period and ended on July 11, 2010.

Section 904 of the 2010 Coast Guard Authorization Act (CGAA), signed into law (Pub. L. 111-281) on 15 October 2010, reauthorized for a period of two years the use of foreign citizens (excluding the master) on United States-documented purse seine vessels in the Distant Water Tuna Fleet (DWTF). This reauthorized manning exemption also only applies to vessels operating in and out of American Samoa. In addition, the 2010 CGAA added a safety examination requirement such that a vessel's owner/operator may not employ a foreign citizen to meet a manning requirement unless it first successfully completes an annual dockside safety examination by an individual authorized to enforce part B of subtitle II of title 46, United States Code. Furthermore, the 2010 CGAA also amended 46 U.S.C. 4502 establishing requirements for an individual in charge of a vessel to keep a record of equipment maintenance and required instruction and drills, and for a vessel to be issued a certificate of compliance upon successfully completing a dockside safety examination. The reauthorization retained the restriction that a foreign officer engaged to fill a position must hold a valid license or certificate issued in accordance with the International Convention on Standards of Training, Certification, and Watchkeeping for Seafarers, as amended, standards and by an authority recognized by the Coast Guard. The manning exemption reauthorization is set to expire December 31, 2012.

We are requesting your comments for consideration in preparing the final Coast Guard policy that is intended to clarify the requirements enabling a DWTF vessel to take advantage of the temporary manning exemption.

Authority

This notice is issued under authority of 5 U.S.C. 552(a).

Dated: January 13, 2011.
Kevin S. Cook,
Rear Admiral, U.S. Coast Guard, Director of Prevention Policy.

[FR Doc. 2011-1191 Filed 1-19-11; 8:45 am]

BILLING CODE 9110-04-P